SECURITIES AND EXCHANGE COMMISSION

Submission for OMB Review; Comment Request

Upon Written Request, Copies Available From: Securities and Exchange Commission, Office of Investor Education and Advocacy, Washington, DC 20549-0213.

Extension:

Form F-10, OMB Control No. 3235-0380, SEC File No. 270-334.

Notice is hereby given that, pursuant to the Paperwork Reduction Act of 1995 (44 U.S.C. 3501 et seq.), the Securities and Exchange Commission (“Commission”) has submitted to the Office of Management and Budget a request for extension of the previously approved collection of information discussed below.

Form F-10 (17 CFR 239.40) is a registration statement under the Securities Act of 1933 (15 U.S.C. 77a et seq.) that is used by certain Canadian “substantial issuers” (those issuers with at least 36 calendar months of reporting history with a securities commission in Canada and a market value of common stock of at least C$360 million and an aggregate market value of common stock held by non-affiliates of at least C$75 million). The purpose of the information collection is to facilitate cross-border offerings by specified Canadian issuers. Form F-10 is a public document and the information provided is mandatory. We estimate that Form F-10 takes 25 hours per response and is filed by 75 respondents. We further estimate that 25% of the 25 hours per response (6.25 hours) is prepared by the issuer for an annual reporting burden of 469 hours (6.25 hours per response × 75 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to Shagufta_Ahmed@omb.eop.gov; and (ii) Charles Boucher, Director/CIO. Securities and Exchange Commission, C/O Shirley Martinson, 6432 General Green Way, Alexandria, VA 22312; or send an e-mail to: PRA_Mailbox@sec.gov. Comments must be submitted to OMB within 30 days of this notice.

Dated: April 22, 2009.
Elizabeth M. Murphy,
Secretary.

[FR Doc. E9-9672 Filed 4-28-09; 8:45 am]

BILLING CODE 8010-01-P